EQUAL EMPLOYMENT OPPORTUNITY COMMISSION

Sunshine Act Meeting

Agency Holding the Meeting: Equal Employment Opportunity Commission

Federal Register Citation of Previous Announcement: 71 FR 54282, Thursday, September 14, 2006.

Previously Announced Time and Date of Meeting: Thursday, September 21, 2006, 10 a.m. (Eastern Time).

Change in the Meeting: The meeting has been cancelled.

Contact Person for More Information: Stephen Llewellyn, Acting Executive Officer on (202) 663-4070.

Dated: September 19, 2006.
Stephen Llewellyn,
Acting Executive Officer, Executive Secretariat.

[FR Doc. 06-8118 Filed 9-19-06; 3:26 pm]

BILLING CODE 6570-01-M